ENVIRONMENTAL PROTECTION AGENCY

[FRL-7016-2]

Proposed CERCLA Administrative Cost Recovery Settlement; Budd Brothers, d/b/a/ Century 21 Paint, Inc.

AGENCY: Environmental Protection Agency.

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Century 21 Paint, Inc. site in Mahoning County, Austintown, Ohio with the following settling party: Budd Brothers, d/b/a Century 21 Paint, Inc. The settlement requires the settling party to pay $120,000 to the Hazardous Substance Superfund. The conditions of the Agreement may be summarized as follows: Within 30 days of the effective date of this Agreement, the settling party will make an initial down payment of $50,000. The settling party agrees to pay the outstanding balance of $70,000 in three (3) equal installments, plus accrued interest on the unpaid balance, over a period of eighteen (18) months. The interest rate on the outstanding balance shall be the interest rate established under Subchapter A of Chapter 98 of Title 26 of the U.S. Code, compounded on October 1 of each year, in accordance with 42 U.S.C. 9607(a). The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Records Center Room 714, 77 West Jackson Boulevard, Chicago, Illinois 60604.

DATES: Comments must be submitted on or before August 20, 2001.

ADDRESSES: The proposed settlement is available for public inspection at the U.S. EPA Records Center Room 714, 77 West Jackson Boulevard, Chicago, Illinois 60604. A copy of the proposed settlement may be obtained from the Office of Regional Counsel, 77 West Jackson Boulevard, Chicago, Illinois 60604. Comments should reference the Century 21 Paint, Inc. site in Mahoning County, Austintown, Ohio and EPA Docket No. V-W-01-C-650 and should be addressed to Ms. Joanna Glowacki, Associate Regional Counsel, U.S. EPA Office of Regional Counsel, 77 West Jackson Boulevard (C-14J), Chicago, Illinois 60604.

FOR FURTHER INFORMATION CONTACT: Ms. Joanna Glowacki, Associate Regional Counsel, U.S. EPA Office of Regional Counsel, 77 West Jackson Boulevard (C-14J), Chicago, Illinois 60604, at (312) 353-3757.

Dated: July 3, 2001.
William E. Muno,
Director, Superfund Division, Region 5, Environmental Protection Agency.

[FR Doc. 01-18192 Filed 7-19-01; 8:45 am]

BILLING CODE 6560-50-P